Title 3—

The President

Proclamation 7470 of September 24, 2001

Family Day, 2001

By the President of the United States of America

A Proclamation

Strong families make a strong America. Responsible, caring, and involved parenting dramatically affects the direction of a child's life and fundamentally influences the well-being of society as a whole. To help ensure a bright future for our children and for our Nation, we must expand our efforts to strengthen and empower families in their important task of effectively preparing children for the challenges of tomorrow.

To help families, we must fight crime and violence in our schools and communities, and we must make a quality education available to all young people, regardless of background. We must also work to ensure that adults have the skills and resources they need to provide for the health, safety, and well-being of their children.

Our Nation should send a consistent message that hails the vital importance of families. We live in an era of busy schedules and significant commitments to work, school, and community. However, quality time among family members remains as vital as ever to maintaining strong and loving bonds between parents and children and to protecting young people from harm. In its most recent survey, the National Center on Addiction and Substance Abuse at Columbia University (CASA) found that a teenager who sits down to dinner with his or her family seven nights a week is 20 percent less likely to smoke, drink, or use illegal drugs than those that do not. By contrast, teenagers who never eat dinner with their families are 61 percent more likely to engage in these activities.

According to CASA's research, other family-bonding activities can similarly promote the avoidance of drug, alcohol, or cigarette use by teens. These include helping teenagers with homework, attending religious services with them, making religion an important part of their lives, and praising and disciplining teens as appropriate. CASA also advises that parents should monitor their teen's television viewing, music purchases, and Internet use, and should establish curfews and know where their children are after school and on weekends. Perhaps most importantly, parents should send a clear message, by example and word, of their clear disapproval of cigarette, alcohol, and drug use.

CASA's findings demonstrate how parental influence remains the single most important weapon in the war on drugs. Americans must continue to recognize the importance of strong families and involved parents in setting our Nation on the road to a drug-free society. The health, safety, and well-being of our young people merit nothing less.

NOW, THEREFORE, I, GEORGE W. BUSH, President of the United States of America, by virtue of the authority vested in me by the Constitution and laws of the United States, do hereby proclaim September 24, 2001, as Family Day. I call upon the people of the United States to observe this day by spending quality time with family members and engaging in other wholesome activities that help unite and strengthen the bonds between parents and children.

IN WITNESS WHEREOF, I have hereunto set my hand this twenty-fourth day of September, in the year of our Lord two thousand one, and of the Independence of the United States of America the two hundred and twenty-sixth.

B

[FR Doc. 01-24453

Filed 9-26-01; 10:17 am]

Billing code 3195-01-P